DEPARTMENT OF LABOR

Office of the Secretary

Combating Exploitive Child Labor Through Education in Indonesia and Nepal

AGENCY: Bureau of International Labor Affairs, Department of Labor.

Announcement Type: New. Notice of Intent To Fund Sole Source Award.

Catalog of Federal Domestic Assistance (CFDA) Number: Not applicable.

SUMMARY: The U.S. Department of Labor (USDOL), Bureau of International Labor Affairs (ILAB), intends to award USD 2.5 million through a sole source cooperative agreement to Save the Children Federation Inc. (STC), a U.S.-based non-profit organization. This funding will be used over a four-year period to support the current STC project in Indonesia, “Enabling Communities to Combat Child Trafficking through Education,” by extending project activities in the earthquake and tsunami stricken region of Aceh and to bring USDOL funded child labor activities in Indonesia to a successful completion. USDOL also intends to award USD 3.5 million through a sole source cooperative agreement to World Education, Inc., a U.S.-based non-profit organization. This funding will support a four-year second phase of World Education's “Brighter Futures Program: Combating Child Labor in Nepal through Education,” because the activity to be funded is essential to the satisfactory completion of this project.

ILAB is authorized to award and administer this program by the Consolidated Appropriations Act, 2005, Pub. L. 108-447, 118 Stat. 2809 (2004), which provided funding for USDOL to improve access to basic education in international areas with a high rate of abusive and exploitative child labor through the Child Labor Education Initiative (EI) grant program. Since 1995, USDOL has awarded grants to commercial, international, and non-governmental organizations working to eliminate the worst forms of child labor through the provision of basic education. The cooperative agreements awarded under this initiative will be managed by ILAB's International Child Labor Program to assure achievement of the awards' stated goals.

Indonesia: ILAB finds STC uniquely qualified to implement a major program to rapidly restore the educational sector in Aceh and thereby reduce children's vulnerability to trafficking and other forms of exploitation. STC has worked in Indonesia for over 30 years and was one of the leaders of the tsunami emergency response effort in Aceh due to its long-standing presence in the region. The target groups of children in Aceh include children being exploited through work in the worst forms of child labor and those at-risk of entering such work, including conscription into fighting in the civil conflict, and working in the agriculture and fishing sectors in the reconstruction effort.

STC is uniquely qualified by virtue of its institutional and contextual knowledge of Indonesia; its familiarity and strong networks with local officials, organizations, and support groups; its pre-existing presence in Aceh and unparalleled experience providing assistance to the region; its extensive working relationships with the targeted communities; its readily available personnel and facilities; and its experience with USDOL reporting and administrative requirements. Additionally, through their previous work and tsunami relief in Aceh, STC has already laid the groundwork for an expansion of the ENABLE project activities and have identified sources of counterpart funding that will multiply the impact of the USDOL investment. The range of services provided by STC includes innovative methods to increase access to formal and non-formal education; generate public awareness; return, rehabilitate, and reintegrate trafficked children; and build capacity at all levels.

USDOL's experience working with STC began in the summer of 2004, when STC submitted proposals to USDOL in response to solicitations for grant applications under the EI. As a result of the competitive processes, USDOL entered into two cooperative agreements with STC to implement EI projects, including one in Indonesia. Activities completed as part of the current Indonesian project include securing the support and involvement of the government at the national, provincial and district levels; laying the ground work for the return, recovery and reintegration aspect of the program; and signing of a Memorandum of Understanding with the Police hospital to establish the Medical Recovery Center for victims of trafficking. However, Aceh was not included as one of the initial target areas in the original cooperative agreement due to the civil conflict and restrictions placed by the government on foreign assistance in the region. The government has since removed the restrictions, in part due to concerns about trafficking in the post-tsunami environment.

Timely provision of services in Aceh is crucial due to the fragile environment created by the trauma and displacement of the tsunami and the ongoing civil conflict. Given STC's longstanding presence and quality work in the region, strong existing on-the-ground relationships, existing solid foundation and counterpart funding for additional activities, and innovative education delivery methods, USDOL finds STC uniquely qualified for this sole-source award and deems it highly capable of providing timely and effective services in Aceh. The awarding of further USDOL support to STC will allow the program to expand its geographic coverage into Aceh and build on existing activities to rebuild and strengthen the education system in Aceh as a means of reducing children's vulnerability to the worst forms of child labor and trafficking.

Nepal: ILAB finds World Education uniquely qualified to perform the program activities in Nepal on a national scale. As a direct educational service provider in Nepal, World Education has a high level of technical expertise in education and administrative oversight capabilities required to work with local implementing partners in targeted districts throughout Nepal. With an extensive network of working relationships with the government, donors, local partners and communities, and district education authorities in Nepal, World Education possesses a unique ability to implement a comprehensive program of direct services to the intended target group of children. This group is comprised of children working in the worst forms of child labor and those at-risk of entering such work, including domestic service, rag picking (recycling), portering, mining and quarrying, brick manufacturing, bus transportation, bonded labor, as well as those children trafficked for labor and sexual exploitation.

The range of services of World Education's Brighter Futures Program includes development of a flexible, modular non-formal education curriculum and schooling program for child laborers; accelerated learning and transition to formal school; practical skills training programs and apprenticeships; psychosocial and career counseling; improved access and quality of the formal education system through parent-teacher association and community/school management committee development; training of teacher trainers; ongoing collection of baseline data to design well-targeted interventions and track the performance of program beneficiaries; and advocacy for the inclusion of child labor issues in national education programs.

USDOL's experience working with World Education in Nepal began in 2002, when World Education submitted a proposal to USDOL in response to a solicitation for grant application under the EI. As a result of that competitive procurement process, USDOL entered into a cooperative agreement with World Education to implement the current EI project in Nepal called the Brighter Futures Program. World Education's innovative approach in working with communities to provide quality education and increase access to schooling through capacity building and strengthening of parent-teacher associations and community/school management committees has proven effective. As of early 2005, World Education has provided, or was in the process of providing, educational services to 21,857 children removed from the worst forms of child labor, exceeding its original program target of 17,000 children. Over 14,000 children at-risk of entering exploitative labor have also received one or more services through the program.

Given World Education's demonstrable ability to deliver quality services in a complex implementing environment, its extensive local partnerships throughout many districts of Nepal, and its ability to work with communities to address the problem of child labor, USDOL finds World Education to be uniquely qualified for this sole source award. Further USDOL support to World Education will allow the Brighter Futures Program time to strengthen and expand activities undertaken through the current project to ensure sustainability of the project's objectives after it is completed.

For additional information on this award, please contact Charita Castro at (202) 693-4843. Mailing address: U.S. Department of Labor, Bureau of International Labor Affairs, 200 Constitution Avenue, NW., Room S-5307, Washington, DC 20210.

Intergovernmental Review

This funding opportunity is not subject to Executive Order 12372, “Intergovernmental Review of Federal Programs.”

Signed in Washington, DC, this 9th day of August, 2005.
Lisa Harvey,
Grant Officer.

[FR Doc. 05-16273 Filed 8-16-05; 8:45 am]

BILLING CODE 4510-28-P